DEPARTMENT OF ENERGY

Federal Energy Regulatory Commission

[Project No. 14571-000]

Archon Energy 1, Inc.: Notice of Preliminary Permit Application Accepted for Filing and Soliciting Comments, Motions to Intervene, and Competing Applications

On December 16, 2013, Archon Energy 1, Inc. filed an application for a preliminary permit, pursuant to section 4(f) of the Federal Power Act (FPA), proposing to study the feasibility of the Stony Creek Hydropower Project (Stony Creek Project or project) to be located on Stony Creek, near the city of Orland, Glenn County, California. The sole purpose of a preliminary permit, if issued, is to grant the permit holder priority to file a license application during the permit term. A preliminary permit does not authorize the permit holder to perform any land-disturbing activities or otherwise enter upon lands or waters owned by others without the owners' express permission.

The proposed project would consist of the following: (1) A 650-feet-wide and up to 7-feet-high concrete diversion structure; (2) a 6-mile-long penstock that would feed up to five, 1-mile-long pressurized, reinforced concrete pipes creating approximately 125 feet of head; (3) a powerhouse, containing up to four turbine-generators; and (4) an undefined interconnection point to the grid within five to eight miles of the proposed powerhouse. The estimated annual generation of the Stony Creek Project would be 100,000 megawatt-hours.

Applicant Contact: Mr. Paul Grist, President, Archon Energy 1, Inc., 101 E. Kennedy Blvd., Suite 2800, Tampa, Florida 33602; phone: (415) 377-2460.

FERC Contact: Shana Murray; phone: (202) 502-8333.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14571-000.

More information about this project, including a copy of the application, can be viewed or printed on the “eLibrary” link of Commission's Web site at http://www.ferc.gov/docs-filing/elibrary.asp. Enter the docket number (P-14571) in the docket number field to access the document. For assistance, contact FERC Online Support.

Dated: May 1, 2014.
Kimberly D. Bose,
Secretary.

[FR Doc. 2014-10613 Filed 5-8-14; 8:45 am]

BILLING CODE 6717-01-P